SOCIAL SECURITY ADMINISTRATION

[Docket No. SSA-2024-0020]

Social Security Ruling, SSR 26-1p; Title XVI: Determining Continuing Disability at Steps 2 and 3 of the Medical Improvement Review Standard Sequential Evaluation Process for Children Under Age 18—Functional Equivalence

AGENCY: Social Security Administration (SSA).

ACTION: Notice of Social Security Ruling (SSR).

SUMMARY: We are providing notice of SSR 26-1p. This SSR simplifies our process for determining continuing disability at steps 2 and 3 of the medical improvement review standard for children under age 18 who receive Supplemental Security Income (SSI) under title XVI of the Social Security Act.

DATES: We will apply this notice on March 23, 2026.

FOR FURTHER INFORMATION CONTACT: Michael J. Goldstein, Disability Policy, Social Security Administration, 6401 Security Boulevard, Baltimore, MD 21235-6401, telephone: (410) 965-1020.

SUPPLEMENTARY INFORMATION: Although 5 U.S.C. 552(a)(1) and (a)(2) do not require it, we are publishing this SSR in accordance with 20 CFR 402.160(b)(1). Although SSRs do not have the same force and effect as statutes or regulations, they are binding on all components of SSA (20 CFR 402.160(b)(1)).

We use SSRs to make available to the public precedential final opinions, orders, and statements of policy and interpretation relating to the Federal old-age, survivors, disability, supplemental security income, and special veterans benefits programs. We may base SSRs on determinations or decisions made at all levels of our administrative review process, Federal court decisions, decisions of our Commissioner, opinions from our Office of the General Counsel, or other interpretations of the law and regulations.

This SSR will remain in effect until we publish a notice in the Federal Register that rescinds it, or we publish a new SSR that replaces or modifies it.

(Federal Assistance Listings No. 96.006—Supplemental Security Income.)

Mark A. Steffensen,
General Counsel, Social Security Administration.

Policy Interpretation Ruling

SSR 26-1p: Title XVI: Determining Continuing Disability at Steps 2 and 3 of the Medical Improvement Review Standard Sequential Evaluation Process for Children Under Age 18—Functional Equivalence.

This SSR rescinds and replaces SSR 05-03p.

Purpose: This SSR simplifies the way we determine continuing disability at steps 2 and 3 of the medical improvement review standard (MIRS) sequential evaluation process for children under age 18 described in 20 CFR 416.994a(b)(2). It also demonstrates how to apply functional equivalence at steps 2 and 3.

Citations (Authority): 42 U.S.C. 1382c (a)(3), (a)(4), and (c) of the Social Security Act; 20 CFR 416.924, 416.925, 416.926, 416.926a, and 416.994a.

Dates: We will apply this notice on March 23, 2026.

Introduction

A child under age 18 is disabled under title XVI of the Social Security Act if they have a medically determinable impairment or combination of impairments that results in marked and severe functional limitations and lasts or can be expected to last for at least 12 months or is expected to result in death.¹ We will find that an impairment(s) causes marked and severe functional limitations if it meets or medically equals the requirements of a listing, or if it functionally equals the listings (20 CFR 416.924(d)).

¹ 42 U.S.C. 1382c(a)(3)(C)(i).

We periodically conduct a continuing disability review (CDR) to determine whether a child's disability continues. We will find a child is no longer disabled if their impairment(s) has medically improved and no longer results in marked and severe functional limitations.² We use a three-step sequential evaluation process to determine whether a child's disability continues or ends, as outlined in 20 CFR 416.994a(b). This process is known as the medical improvement review standard (MIRS). As part of the MIRS process, we again consider whether a child's impairment(s) meets, medically equals, or functionally equals the listings (20 CFR 416.994a(a)(1) and 416.994a(b)(3)).

² Certain exceptions to medical improvement may apply, under which disability can be found to have ended even though medical improvement has not occurred. 42 U.S.C. 1382c(a)(4)(B), (C). Those exceptions are not relevant here.

Effective January 2, 2001, we revised our rules to simplify the evaluation of functional equivalence.³ Following that change, we issued SSR 05-03p to instruct adjudicators on how to apply the revised functional equivalence rule in the CDR process for children under age 18. SSR 05-03p included two sets of instructions, to be applied to CDRs for children depending on whether the most recent favorable determination or decision (comparison point decision (CPD)) was issued before January 2, 2001, or on or after this date. There is no longer a population for whom a CPD issued before January 2, 2001 could apply because such an individual would have attained an age greater than 18 (the youngest of which would be at least age 24). Since, by definition, there are no longer any child cases with a CPD before January 2, 2001, we no longer need instructions for those types of cases. Consequently, it is appropriate for us to remove the obsolete text in SSR 05-03p and simplify our subregulatory guidance by including only relevant material.

³ 65 FR 54747 (September 11, 2000).

We are also simplifying the instructions for considering functional equivalence in cases with a CPD on or after January 2, 2001. For those cases, SSR 05-03p instructed adjudicators to consider functional equivalence twice in the CDR process and we are eliminating that redundancy. For these reasons, we are rescinding SSR 05-3p.

Policy Interpretation

When we conduct a CDR for children under age 18, we use a three-step MIRS sequential evaluation process outlined in 20 CFR 416.994a(b). Below, we explain how we are simplifying that process.

Step 1 of the MIRS Sequential Evaluation Process

At step 1, we determine whether there has been medical improvement in the impairment(s) that was present at the time of the most recent favorable determination or decision (20 CFR 416.994a(b)(1)). We refer to the impairment(s) that was present at the time of the most recent favorable determination or decision as the CPD impairment(s). If there has been no medical improvement in the CPD impairment(s), we find that the child's disability continues.⁴ If there has been medical improvement, we proceed to step 2 (20 CFR 416.994a(b)(2)).

⁴ As noted, certain exceptions to medical improvement may apply, under which disability can be found to have ended even though medical improvement has not occurred. See 20 CFR 416.994(a)(1), (e), and (f).

Step 2 of the MIRS Sequential Evaluation Process

At step 2, we determine whether the CPD impairment(s) still meets or medically equals the severity of the listed impairment that it met or equaled at the time of the CPD. We consider the listing as it was written at the time of the CPD, even if the listing has since been revised or removed (20 CFR 416.994a(b)(2)).

If the CPD impairment(s) met or medically equaled a listing: If our determination or decision at the time of the CPD was that the child's impairment(s) met or medically equaled a listing, we consider whether the CPD impairment(s) now either meets or medically equals that same listing. If it does, we find that the child is still disabled.

To determine that the CPD impairment(s) currently meets or medically equals the CPD listing, we do not have to make the same finding we made at the CPD. For example, if we found at the CPD that the child's impairment(s) met a listing, and now the CPD impairment(s) no longer meets that listing, but it medically equals that listing, we find that the child's disability continues. Similarly, if the CPD impairment(s) met or equaled a specific subsection of the CPD listing (e.g., 103.04B) and now meets or equals a different subsection of that listing (e.g., 103.04A), we will find that the child is still disabled. If the CPD impairment(s) does not currently meet or medically equal the CPD listing, as that listing was written at the time of the CPD, we proceed to step 3 (20 CFR 416.994a(b)(3)).

If the CPD impairment(s) functionally equaled the listings: If our determination or decision at the time of the CPD was that the child's impairment(s) functionally equaled the listings, there is no CPD listing for comparison at step 2. Therefore, we will not make a finding at step 2 but will continue to step 3.

Step 3 of the MIRS Sequential Evaluation Process

At step 3, we consider all current impairments, including the CPD impairment(s), any new impairments, and impairments not considered at the time of the CPD (20 CFR 416.994a(b)(3)). We first determine whether the current impairment(s) is severe (20 CFR 416.994a(b)(3)(i)). If so, we determine whether the current impairment(s) meets or medically equals a current listing or functionally equals the listings. If the impairment(s) is severe and meets or medically equals a listing, or functionally equals the listings, we will find that the child is still disabled. If the impairment(s) is not severe, or the impairment(s) is severe but does not meet or medically equal a listing and does not functionally equal the listings, we will find that the child's disability has ceased (20 CFR 416.994a(b)(3)(i)-(iii)).

Why We No Longer Consider Functional Equivalence at Step 2 of the MIRS Sequential Evaluation Process

Consistent with 20 CFR 416.994a(a)(1), which states that we will consider whether the CPD impairment(s) “now meets or medically or functionally equals the severity of the listing it met or equaled at that time,” SSR 05-03p instructed that adjudicators consider if the CPD impairment(s) functionally equaled the listings at step 2 of the CDR sequential evaluation.

Step 2 of the CDR evaluation ensures an individual's CPD impairments continue to be evaluated based on the listing requirements that existed at the time of the CPD—even if that listing was later removed or revised. Considering functional equivalence at step 2 was appropriate for cases in which the CPD was prior to January 2, 2001, because functional equivalence in such cases was linked to the severity of a specific listed impairment that included a disabling limitation(s) in its criteria (20 CFR 416.926a(a) (2000)).

Effective January 2, 2001, functional equivalence is no longer linked to the disabling limitation(s) in the criteria of a specific listed impairment.⁵ Beginning January 2, 2001, considering the CPD impairment(s) at step 2 of the CDR process is unnecessary and redundant. The step 3 functional equivalence analysis considers the interactive and cumulative effects of all the child's current impairments, including both new and CPD impairments. For these reasons, we are eliminating the redundancy created by considering functional equivalence for the CPD impairment(s) at both steps 2 and 3 of the CDR process.

⁵ 65 FR 54747 (September 11, 2000).

Cross-References: SSR 09-1p: Title XVI: Determining Childhood Disability Under the Functional Equivalence Rule—The “Whole Child” Approach; and Program Operations Manual System DI 25225.015, DI 25225.020, DI 25225.025, and DI 28005.030.

[FR Doc. 2026-01154 Filed 1-21-26; 8:45 am]

BILLING CODE 4191-02-P